DEPARTMENT OF LABOR

Employment and Training Administration

[TA-W-60,296]

Eaton Aerospace—Aurora, Aurora, CO; Notice of Termination of Investigation

Pursuant to Section 221 of the Trade Act of 1974, as amended, an investigation was initiated on October 26, 2006 in response to a worker petition filed by a company official on behalf of workers of Eaton Aerospace—Aurora, Aurora, Colorado.

The petitioner has requested that the petition be withdrawn. Consequently, the investigation has been terminated.

Signed at Washington, DC this 17th day of November 2006.
Richard Church,
Certifying Officer, Division of Trade Adjustment Assistance.

[FR Doc. E6-20063 Filed 11-27-06; 8:45 am]

BILLING CODE 4510-30-P